DEPARTMENT OF COMMERCE

International Trade Administration

[C-489-825]

Heavy Walled Rectangular Welded Carbon Steel Pipes and Tubes From the Republic of Turkey: Final Results of Countervailing Duty Administrative Review; 2017

AGENCY: Enforcement and Compliance, International Trade Administration, Department of Commerce.

SUMMARY: The Department of Commerce (Commerce) determines that countervailable subsidies are not being provided to Ozdemir Boru Profil San. Ve Tic. Ltd. Sti. (Ozdemir), an exporter/producer of heavy walled rectangular welded carbon steel pipes and tubes (HWR pipes and tubes) from the Republic of Turkey (Turkey), during the period of review (POR) January 1, 2017 through December 31, 2017.

DATES: Applicable December 23, 2019.

FOR FURTHER INFORMATION CONTACT: Jaron Moore or Janae Martin, AD/CVD Operations, Office VIII, Enforcement and Compliance, International Trade Administration, U.S. Department of Commerce, 1401 Constitution Avenue NW, Washington, DC 20230; telephone: (202) 482-3640 or (202) 482-0238, respectively.

SUPPLEMENTARY INFORMATION:

Background

On August 21, 2019, Commerce published the Preliminary Results of this administrative review.¹ For a description of the events that occurred since the Preliminary Results, see the Issues and Decision Memorandum.² The deadline for the final results of this administrative review is December 19, 2019.

¹ See Heavy Walled Rectangular Welded Carbon Steel Pipes and Tubes from the Republic of Turkey: Preliminary Results of Countervailing Duty Administrative Review; 2017, 84 FR 43583 (August 21, 2019) (Preliminary Results), and accompanying Preliminary Decision Memorandum.

² See Memorandum, “Issues and Decision Memorandum for the Final Results: Administrative Review of the Countervailing Duty Order on Heavy Walled Rectangular Welded Carbon Steel Pipes and Tubes from the Republic of Turkey,” dated concurrently with, and hereby adopted by, this notice (Issues and Decision Memorandum), at 2.

Scope of the Order

The products covered by the order are certain heavy walled rectangular welded steel pipes and tubes of rectangular (including square) cross section, having a nominal wall thickness of not less than 4 mm. The subject merchandise is currently provided for in item 7306.61.1000 of the Harmonized Tariff Schedule of the United States (HTSUS). Subject merchandise may also enter under HTSUS 7306.61.3000. While the HTSUS subheadings and ASTM specification are provided for convenience and customs purposes, the written description is dispositive.³

³ For a complete description of the scope of the order, see Issues and Decision Memorandum at 2-3.

Analysis of Comments Received

A list of the issues raised by interested parties and to which we responded in the Issues and Decision Memorandum is provided in the appendix to this notice. The Issues and Decision Memorandum is a public document and is on file electronically via Enforcement and Compliance's Antidumping and Countervailing Duty Centralized Electronic Service System (ACCESS). ACCESS is available to registered users at http://access.trade.gov, and to all parties in the Central Records Unit, room B8024 of the main Commerce building. In addition, a complete version of the Issues and Decision Memorandum can be accessed directly at http://enforcement.trade.gov/frn/. The signed and electronic versions of the Issues and Decision Memorandum are identical in content.

Changes From the Preliminary Results

Based on our analysis of the comments received, Commerce made certain revisions to the subsidy rate calculations for Ozdemir. The Issues and Decision Memorandum contains descriptions of these revisions.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific. For a full description of the methodology underlying Commerce's conclusions, see the Issues and Decision Memorandum.

Final Results of Administrative Review

In accordance with 19 CFR 351.221(b)(5), we determine the following net countervailable subsidy rate for Ozdemir during the period January 1, 2017 through December 31, 2017:

Company | Subsidy rate (percent)
Ozdemir Boru Profil San. Ve Tic. Ltd. Sti | 0.24 (de minimis)

Assessment Rates

Commerce shall determine, and U.S. Customs and Border Protection (CBP) shall assess, countervailing duties on all appropriate entries covered by this review, pursuant to section 751(a)(2)(C) of the Act and 19 CFR 351.212(b).⁴ Because we calculated a de minimis margin for Ozdemir in the final results of this review, we intend to instruct CBP to liquidate the appropriate entries without regard to countervailing duties.

⁴ See section 751(a)(2)(C) of the Act; 19 CFR 351.212(b).

Commerce intends to issue the appropriate assessment instructions to CBP 15 days after the date of publication of the final results of this review.

Cash Deposit Requirement

Pursuant to section 751(a)(2)(C) of the Act, Commerce also intends to instruct CBP to collect cash deposits of estimated countervailing duties at the appropriate rates. For shipments of subject merchandise by Ozdemir entered, or withdrawn from warehouse, for consumption on or after the date of publication of these final results, the cash deposit rate will be zero. For all non-reviewed firms, we will instruct CBP to continue to collect cash deposits at the most-recent company-specific or all-others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

These final results are issued and published in accordance with sections 751(a)(1) and 777(i)(1) of the Act, and 19 CFR 351.221(b)(5).

Dated: December 17, 2019.
Christian Marsh,
Deputy Assistant Secretary for Enforcement and Compliance.

APPENDIX

I. Summary

II. Background

III. Scope of the Order

IV. Period of Review

V. Subsidies Valuation Information

VI. Analysis of Programs

VII. Analysis of Comments

Comment 1: Provision of Hot-Rolled Steel (HRS) for Less Than Adequate Renumeration (LTAR): Whether To Include Value-Added Tax (VAT) on Imported HRS

Comment 2: Deduction From Taxable Income for Export Revenue: Whether To Use Amount Listed in Ozdemir's 2016 or 2017 Tax Return

VIII. Recommendation

[FR Doc. 2019-27643 Filed 12-20-19; 8:45 am]

BILLING CODE 3510-DS-P